ENVIRONMENTAL PROTECTION AGENCY

40 CFR Part 312

[EPA-HQ-OLEM-2021-0946 FRL-9334.1-02-OLEM]

Standards and Practices for All Appropriate Inquiries

AGENCY: Environmental Protection Agency (EPA).

ACTION: Withdrawal of direct final rule.

SUMMARY: Because EPA received adverse comment, we are withdrawing the direct final rule for Standards and Practices for All Appropriate Inquiries published on March 14, 2022.

DATES: Effective May 2, 2022, EPA withdraws the direct final rule published at 87 FR 14174, on March 14, 2022.

FOR FURTHER INFORMATION CONTACT: Patricia Overmeyer, Office of Brownfields and Land Revitalization (5105T), U.S. Environmental Protection Agency, 1200 Pennsylvania Ave. NW, Washington, DC 20460-0002, 202-566-2774 or Overmeyer.patricia@epa.gov.

SUPPLEMENTARY INFORMATION: Because EPA received adverse comment, we are withdrawing the direct final rule for Standards and Practices for All Appropriate Inquiries published on March 14, 2022 (87 FR 14174). We stated in that direct final rule that if we received adverse comment by April 13, 2022, the direct final rule would not take effect and we would publish a timely withdrawal in the Federal Register. We subsequently received adverse comment on that direct final rule. We will address these comments in a subsequent final action, which will be based on the parallel proposed rule also published on March 14, 2022 (87 FR 14224). As stated in the direct final rule and the parallel proposed rule, we will not institute a second comment period on this action.

List of Subjects in 40 CFR Part 312

Administrative practice and procedure, Hazardous substances.

Accordingly, the direct final rule amending 40 CFR part 312, published in the Federal Register on March 14, 2022 (87 FR 14174), is withdrawn as of May 2, 2022.

Dated: April 22, 2022.
Barry N. Breen,
Acting Assistant Administrator, Office of Land and Emergency Management.

[FR Doc. 2022-09332 Filed 4-29-22; 8:45 am]

BILLING CODE 6560-50-P